DEPARTMENT OF TRANSPORTATION

Federal Aviation Administration

14 CFR Part 71

[Docket No. FAA-2008-0003; Airspace Docket No. 08-ASW-1]

Establishment of Class E Airspace; Lexington, OK

AGENCY: Federal Aviation Administration (FAA), DOT.

ACTION: Direct final rule; withdrawal.

SUMMARY: A direct final rule, published in the Federal Register February 11, 2008 (73 FR 7667) FAA Docket No. 2008-0003, is being withdrawn. This copy of the rule was inadvertently sent to the Federal Register. The direct final rule establishing Class E airspace at Muldrow Army Heliport, Lexington, OK, published February 15, 2008, (73 FR 8795) is the correct rule.

DATES: Effective Date: 0901 UTC March 20, 2008.

FOR FURTHER INFORMATION CONTACT: Joe Yadouga, Central Service Center, System Support Group, Federal Aviation Administration, Southwest Region, Fort Worth, Texas 76193-0530; telephone number (817) 222-5597.

SUPPLEMENTARY INFORMATION:

History

On Monday, February 11, 2008, a direct final rule establishing Class E Airspace at Muldrow Army Heliport, Lexington, OK, was inadvertently published in the Federal Register (73 FR 7667) FAA Docket No. 2008-0003. On Friday, February 15, 2008, another direct final rule for the same airspace, with minor changes to the geographic location, also was published in the Federal Register (73 FR 8795). The FAA is withdrawing the first direct final rule, published in the Federal Register February 11, 2008 (73 FR 7667).

Withdrawal of Direct Final Rule

Accordingly, pursuant to the authority delegated to me, the Federal Aviation Administration withdraws the direct final rule published in the Federal Register February 11, 2008 (73 FR 7667).

* * * * *

Issued in Fort Worth, TX, on March 5, 2008.
Donald R. Smith,
Manager, System Support Group, ATO Central Service Center.

[FR Doc. E8-5164 Filed 3-19-08; 8:45 am]

BILLING CODE 4910-13-M